DEPARTMENT OF STATE

[Public Notice 4533]

Shipping Coordinating Committee; Notice of Meeting

The Shipping Coordinating Committee (SHC) will conduct an open meeting at 9 a.m. on Monday, January 26, 2004, in Room 6319 of the United States Coast Guard Headquarters Building, 2100 2nd Street SW., Washington, DC 20593-0001. The primary purpose of the meeting is to prepare for the 47th Session of the International Maritime Organization (IMO) Sub-Committee on Stability and Load Lines and on Fishing Vessels Safety to be held at IMO Headquarters in London, England from September 13th to 17th.

The primary matters to be considered include:

—Harmonization of damage stability provisions in SOLAS Chapter II-1;

—Large passenger ship safety;

—Review of the Intact Stability Code;

—Revision of the Fishing Vessel Safety Code and Voluntary Guidelines;

—Review of the Offshore Supply Vessel Guidelines;

—Harmonization of the damage stability provisions in other IMO instruments, including the 1993 Torremolinos Protocol (probabilistic method);

—Revision of technical regulations of the 1966 Load Line Convention;

—Review pf the 2000 HSC Code and amendments to the DSC Code and the 1994 HSC Code.

Members of the public may attend this meeting up to the seating capacity of the room. Interested persons may seek information by writing to Mr. Paul Cojeen, Commandant (G-MSE), U.S. Coast Guard Headquarters, 2100 Second Street SW., Room 1308, Washington, DC 20593-0001 or by calling (202) 267-2988.

Dated: December 18, 2003.
Steven D. Poulin,
Executive Secretary, Shipping Coordinating Committee, Department of State.

[FR Doc. 03-32050 Filed 12-29-03; 8:45 am]

BILLING CODE 4910-09-P